AGENCY FOR INTERNATIONAL DEVELOPMENT

48 CFR Part 752

RIN 0412-AA82

Agency for International Development Acquisition Regulation (AIDAR): Preference for Privately Owned U.S.-Flag Commercial Vessels.

AGENCY: U.S. Agency for International Development.

ACTION: Direct final rule.

SUMMARY: The U.S. Agency for International Development (USAID) is revising the Agency for International Development Acquisition Regulation (AIDAR) clause to conform to the current requirements of the Cargo Preference Act of 1954 and provide up-to-date submission instructions to the Maritime Administration (MARAD).

DATES: This rule is effective October 18, 2016 without further action, unless adverse comments are received by September 19, 2016. If adverse comments are received, USAID will publish a timely withdrawal of this rule in the Federal Register. Submit comments on or before September 19, 2016.

ADDRESSES: Address all comments concerning this notice to Lyudmila Bond, Bureau for Management, Office of Acquisition and Assistance, Policy Division (M/OAA/P), Room 867J, SA-44, Washington, DC 20523-2052. Submit comments, identified by title of the action and Regulation Identifier Number (RIN) by any of the following methods:

1. Through the Federal eRulemaking Portal at http://www.regulations.gov by following the instructions for submitting comments.

2. By Email: Submit electronic comments to lbond@usaid.gov. See SUPPLEMENTARY INFORMATION for file formats and other information about electronic filing.

3. By Mail addressed to: USAID, Bureau for Management, Office of Acquisition & Assistance, Policy Division, Room 867J, SA-44, 1300 Pennsylvania Ave. NW., Washington, DC 20523-2052.

FOR FURTHER INFORMATION CONTACT: Lyudmila Bond, Telephone: 202-567-4753 or Email: lbond@usaid.gov.

SUPPLEMENTARY INFORMATION:

A. Instructions

All comments must be in writing and submitted through one of the methods specified in the ADDRESSES section above. All submissions must include the title of the action and RIN for this rulemaking. Please include your name, title, organization, postal address, telephone number, and email address in the text of the message.

Comments submitted by email must be included in the text of the email or attached as a PDF file. Please avoid using special characters and any form of encryption. Please note that USAID recommends sending all comments to the Federal eRulemaking Portal because security screening precautions have slowed the delivery and dependability of surface mail to USAID/Washington.

After receipt of a comment and until finalization of the action, all comments will be made available at http://www.regulations.gov for public review without change, including any personal information provided. We recommend you do not submit information that you consider Confidential Business Information (CBI) or any information that is otherwise protected from disclosure by statute.

USAID is publishing this revision as a direct final rule as the Agency views this as a conforming and administrative amendment and does not anticipate any adverse comments. This rule will be effective on the date specified in the DATES section above without further notice unless adverse comment(s) are received by the date specified in the DATES section above.

USAID will only address substantive comments on the rule. Comments that are insubstantial or outside the scope of the rule may not be considered.

If adverse comments are received on the direct final rule, USAID will publish a timely withdrawal in the Federal Register informing the public that this rule will not take effect. If no adverse comments are received, this final rule will become final after the designated period. Additionally, USAID is publishing a separate document in the “Proposed Rules” section of this Federal Register that will serve as the proposal to approve these AIDAR revisions if adverse comments are received.

USAID will address all public comments in a subsequent final rule based on the proposed rule. USAID will not institute a second comment period on this action. Any parties interested in commenting must do so at this time.

B. Background

USAID is revising AIDAR section 752.247-70, Preference for privately owned U.S.-flag commercial vessels to conform to the current requirements of the Cargo Preference Act of 1954. The Act mandates that at least 50 percent of the gross tonnage of all Government generated cargo be transported on privately owned, U.S.-flag commercial vessels, to the extent such vessels are available at fair and reasonable rates. Other changes to the clause include up-to-date submission requirements to the Maritime Administration (MARAD). The changes will not impose any additional requirements on contractors.

C. Impact assessment

(1) Regulatory Planning and Review

Under E.O. 12866, USAID must determine whether a regulatory action is “significant” and therefore subject to the requirements of the E.O. and subject to review by the Office of Management and Budget (OMB). USAID has determined that this Rule is not an “economically significant regulatory action” under Section 3(f)(1) of E.O. 12866. This rule is not a major rule under 5 U.S.C. 804.

(2) Regulatory Flexibility Act

The rule will not have an impact on a substantial number of small entities within the meaning of the Regulatory Flexibility Act, 5 U.S.C. 601, et seq. Therefore, an Initial Regulatory Flexibility Analysis has not been performed.

(3) Paperwork Reduction Act

The rule does not establish a new collection of information that requires the approval of the Office of Management and Budget under the Paperwork Reduction Act (44 U.S.C. chapter 35).

List of Subjects in 48 CFR Part 752

Government procurement.

For the reasons discussed in the preamble, USAID amends 48 CFR part 752 as set forth below:

PART 752—SOLICITATION PROVISIONS AND CONTRACT CLAUSES

1. The authority citation for part 752 continues to read as follows:

Authority: Sec. 621, Pub. L. 87-195, 75 Stat. 445, (22 U.S.C. 2381) as amended; E.O. 12163, Sept. 29, 1979, 44 FR 56673; and 3 CFR 1979 Comp., p. 435.

2. Amend 752.247-70:

i. In paragraph (a), by removing the words “46 U.S.C. 1241(b)” and adding in their place the words “46 U.S.C. 55305)” and removing the words “at least 75 percent” and adding in their place the words “at least 50 percent”;

ii. In paragraph (b), by removing the words “programs or activities” and adding in their place the word “program” and removing the words “50 or 75 percent” and adding in their place the words “50 percent”;

iii. In paragraph (c)(1) introductory text, by removing the words “the Division of National Cargo, Office of Cargo Preference, Maritime Administration, U.S. Department of Transportation, Washington, DC 20590” and adding in their place the words “Office of Cargo and Commercial Sealift, Maritime Administration (MARAD), U.S. Department of Transportation, 1200 New Jersey Ave. SE., Washington, DC 20590”; and

iv. By adding paragraph (c)(1)(iii).

The addition reads as follows:

752.247-70 Preference for privately owned U.S.-flag commercial vessels.

* * * * *

(c)(1) * * *

(iii) For all shipments, scanned copies for MARAD must be sent to: Cargo.MARAD@DOT.gov.

* * * * *

Dated: July 6, 2016.
Mark Walter,
Acting Chief Acquisition Officer.

[FR Doc. 2016-17137 Filed 7-19-16; 8:45 am]

BILLING CODE 6116-01-P